DEPARTMENT OF EDUCATION

Privacy Act of 1974; System of Records

AGENCY: Office of Inspector General, Department of Education.

ACTION: Notice of an altered system of records; correction.

SUMMARY: On Monday, June 14, 2010, we published in the Federal Register (75 FR 33608) a notice of an altered system of records to revise the system of records notice for the Investigative Files of the Inspector General (18-10-01), 68 FR 38154 (June 26, 2003). This document corrects errors in the June 14, 2010 notice.

On page 33609, in the first column, under DATES, correct the second paragraph to read:

The Department filed a report describing the altered system of records covered by this notice with the Chair of the Senate Committee on Homeland Security and Governmental Affairs, the Chair of the House Committee on Oversight and Government Reform, and the Administrator of the Office of Information and Regulatory Affairs, OMB on June 9, 2010. This altered system of records will become effective at the later date of—(1) the expiration of the 40-day period for OMB review on July 19, 2010 unless OMB waives ten days of its 40-day review period in which case on July 9, 2010, or (2) July 26, 2010, unless the system of records needs to be changed as a result of public comment or OMB review.

FOR FURTHER INFORMATION CONTACT: Shelley Shepherd, Assistant Counsel to the Inspector General, 400 Maryland Avenue, SW., PCP building, room 8166, Washington, DC 20202-1510. Telephone: (202) 245-7077.

If you use a telecommunications device for the deaf (TDD), call the Federal Relay Service (FRS), toll free, at 1-800-877-8339.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF), on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 22, 2010.
Kathleen S. Tighe,
Inspector General.

[FR Doc. 2010-15493 Filed 6-24-10; 8:45 am]

BILLING CODE 4000-01-P